BUREAU OF CONSUMER FINANCIAL PROTECTION

[Docket No: CFPB-2015-0014]

Agency Information Collection Activities: Submission for OMB Review; Comment Request

AGENCY: Bureau of Consumer Financial Protection.

ACTION: Notice and request for comment.

SUMMARY: In accordance with the Paperwork Reduction Act of 1995 (PRA), the Consumer Financial Protection Bureau (CFPB) is proposing to renew the approval for an existing information collection titled, “CFPB's Consumer Response Intake Form.”

DATES: Written comments are encouraged and must be received on or before May 8, 2015 to be assured of consideration.

ADDRESSES: You may submit comments, identified by the title of the information collection, OMB Control Number (see below), and docket number (see above), by any of the following methods:

• Electronic: http://www.regulations.gov. Follow the instructions for submitting comments.

• OMB: Office of Management and Budget, New Executive Office Building, Room 10235, Washington, DC 20503 or fax to (202) 395-5806. Mailed or faxed comments to OMB should be to the attention of the OMB Desk Officer for the Bureau of Consumer Financial Protection.

Please note that comments submitted after the comment period will not be accepted. In general, all comments received will become public records, including any personal information provided. Sensitive personal information, such as account numbers or social security numbers, should not be included.

FOR FURTHER INFORMATION CONTACT: Documentation prepared in support of this information collection request is available at www.reginfo.gov (this link active on the day following publication of this notice). Select “information Collection Review,” under “Currently under review, use the dropdown menu “Select Agency” and select “Consumer Financial Protection Bureau” (recent submissions to OMB will be at the top of the list). The same documentation is also available at http://www.regulations.gov. Requests for additional information should be directed to the Consumer Financial Protection Bureau, (Attention: PRA Office), 1700 G Street NW., Washington, DC 20552, (202) 435-9575, or email: PRA@cfpb.gov.

Please do not submit comments to this email box.

SUPPLEMENTARY INFORMATION:

Title of Collection: CFPB's Consumer Response Intake Form.

OMB Control Number: 3170-0011.

Type of Review: Extension with change of a currently approved collection.

Affected Public: Individuals or households.

Estimated Number of Respondents: 3,000,000.

Estimated Total Annual Burden Hours: 387,500.

Abstract: The Intake Form is designed to aid consumers in the submission of complaints, questions, and comments and to help the CFPB fulfill the CFPB's statutory requirements. Consumers (hereinafter “respondents”) will be able to complete and submit information through the Intake Form electronically on the CFPB's Web site. Alternatively, respondents may request that the CFPB email a fillable PDF version or, by telephone, request a “paper” copy of the Intake Form, and then email, mail, or fax it to the CFPB. The questions within the Intake Form prompt respondents for a description of, and key facts about, the complaint at issue, the desired resolution, contact and account information, information about the institution they are filing a complaint against, and any previous action taken to attempt to resolve the complaint.

Request For Comments: The CFPB issued a 60-day Federal Register notice on December 29, 2014 (79 FR 78068). Comments were solicited and continue to be invited on: (a) Whether the collection of information is necessary for the proper performance of the functions of the CFPB, including whether the information will have practical utility; (b) The accuracy of CFPB's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be summarized and/or included in the request for Office of Management and Budget (OMB) approval. All comments will become a matter of public record.

Dated: April 2, 2015.
Ashwin Vasan,
Chief Information Officer, Bureau of Consumer Financial Protection.

[FR Doc. 2015-08100 Filed 4-7-15; 8:45 am]

BILLING CODE 4810-AM-P